AGENCY FOR INTERNATIONAL DEVELOPMENT

Board for International Food and Agricultural Development One Hundred and Fifty-Fourth Meeting; Notice of Meeting

Pursuant to the Federal Advisory Committee Act, notice is hereby given of the one hundred and fifty-fourth meeting of the Board for International Food and Agricultural Development (BIFAD). The meeting will be held from 8:45 a.m. to 4 p.m. on June 17, 2008 at the National Press Club located at 529 14th St., NW., Washington, DC. The venue will be the 1st Amendment Room which is located on the 13th floor of the National Press Club. “Global Food Prices and Policy Actions” is the theme of BIFAD's June meeting.

Dr. Robert Easter, Chairman of BIFAD, will preside over the proceedings. Dr. Easter is Dean of the College of Agriculture, Consumer and Environment Sciences at the University of Illinois.

The morning session will be include the Board's special study on “Defining a Title XII Activity”, and the results from BIFAD's recent Conference of Deans, which emphasized “Higher Education on a New Stage in Global Agricultural Development.” The conference was held on April 30, 2008. Highlighting the morning session will be the presentation entitled; “Food Prices: The What, Who, and How of Proposed Policy Actions.” This will be delivered by Dr. John Hoddinott, Deputy Division Director, International Food Policy Research Institute, Washington, DC. This presentation will be followed by a discussion on the Board's “White Paper”, and with particular reference to BIFAD's recommendations to USAID's senior leadership.

The afternoon session will shift to technical topics with reports from the Strategic Partnership for Agricultural Research and Education (SPARE). SPARE is BIFAD's analytical sub-committee. This session will be led by Dr. Robert Paarlberg, member of the SPARE committee. Dr. Paarlberg will report on SPARE's review of the Collaborative Research Support Program (CRSP) guidelines, and SPARE's review and pending revisions to USAID's ADS 216 as related to implementation of Title XII. A progress report on the procurement of USAID's new Horticultural CRSP will also be presented.

The Board and SPARE meetings are open to the public. The Board welcomes open dialog to promote greater focus on critical issues facing USAID and international agriculture.

Those wishing to attend the meeting or obtain additional information about BIFAD should contact Dr. Ronald S. Senykoff, the Designated Federal Officer for BIFAD. Write him in care of the U.S. Agency for International Development, Ronald Reagan Building, Office of Agriculture, Bureau for Economic Growth, Agriculture and Trade, 1300 Pennsylvania Avenue, NW., Room 2.11-085, Washington, DC 20523-2110 or telephone him at (202) 712-0218 or fax (202) 216-3010.

Ronald S. Senykoff,
USAID Designated Federal Officer for BIFAD, Office of Agriculture and Food Security, Bureau for Economic Growth, Agriculture & Trade, U.S. Agency for International Development.

[FR Doc. E8-12470 Filed 6-3-08; 8:45 am]

BILLING CODE 6116-01-P